DEPARTMENT OF AGRICULTURE

Forest Service

Little Bear-Wilson Timber Sale, Gallatin National Forest, Gallatin County, MT

AGENCY: Forest Service, USDA.

ACTION: Notice; intent to prepare environmental impact statement.

SUMMARY: The Forest Service intends to prepare an environmental impact statement to document the analysis and disclose the environmental impacts of a proposed action to manipulate forest vegetation on about 500 acres. This area lies about 13 miles south of Bozeman, Montana.

The proposed action would harvest timber on about 500 acres. The purpose of this timber harvest is to provide revenue to facilitate the funding of land exchanges as directed in the Gallatin Land Consolidation Act of 1998 (PL 105-267). Approximately 2.5 miles of temporary roads will be constructed to facilitate removal of wood products. These temporary roads will be obliterated following post-harvest activities. Approximately 3.8 miles of existing road will be reconstructed. As estimated 50 to 100 miles of existing road will be closed to use by passenger vehicle (highway vehicles greater than 50 inches wide). Watershed restoration treatments would depend on the individual road conditions but could include road closures by using gates, berms or other barriers; installing water bars, removing culverts, ripping/seeding/slashing, and in a few segments, recontouring. Some roads may be converted to trails. All main roads which have been historically open to the public, such as Little Bear road, would remain open to motorized use. Where consistent with the purpose of providing land exchange revenues, treatments to improve the visual quality altered by past clearcutting will be used.

DATES: Initial comments concerning the scope of the analysis should be received in writing no later than May 12, 2000.

ADDRESSES: Send written comments to Jan Lerum, District Ranger, 3710 Fallon Street, Suite C, Bozeman, MT 59718. The responsible official is David P. Garber, Forest Supervisor, Gallatin National Forest.

FOR FURTHER INFORMATION CONTACT: Marsha Hollander, Project Leader, Bozeman Ranger District, at (406) 522-2558.

SUPPLEMENTARY INFORMATION: No clearcutting or permanent road construction is proposed. About 257 acres to be harvested in which 85% of the mature trees are cut and 15% left. About 156 acres to be harvested in which 60% of the mature trees are cut and 40% left. About 59 acres to be harvested in which 50% of the mature trees are cut and 50% left. About 28 acres to be harvested in which 90% of the mature trees are cut and 10% left. Site-specific, forest plan amendments may be proposed for visual quality, road Density and vegetation structural diversity standards.

The project area is located in the Little Bear, Big Bear, Wilson, and Jack Creek drainages (specifically, T3S, R5E, Section 32; T4S, R4E, Sections 12, 16 and 24; and T4S, R5E, sections 4, 8, 14, 16, 18, 19 and 22, PMM). The scope of this proposal is limited to timber harvest, post harvest regeneration treatments, area improvements, road restoration and related mitigation requirements within the project area.

Public participation is important to this analysis. Part of the goal of public involvement is to identify additional issues and to refine the general, tentative issues. A scoping notice describing the project was mailed to those who requested information on timber harvest activities on the Gallatin National forests. The United States Fish and Wildlife Service will be consulted concerning effects to threatened and endangered species.

Preliminary issues identified by Forest Service specialists include effects to water quality, sensitive, threatened, and endangered wildlife species habitat, big game security, sensitive fish species habitat, visual quality, recreational access, old growth forests, and timber sale revenue. The analysis will consider all reasonably foreseeable activities.

People may visit with Forest Service officials at any time during the analysis and prior to the decision. Two periods are specifically designated for comments on the analysis: (1) During the scoping process and (2) during the draft EIS period.

During the scoping process, the Forest Service is seeking information and comments from Federal, State and local agencies and other individuals or organization who may be interested in or affected by the proposed action. The agency invites written comments and suggestions on this action, particularly in terms of identification of issues and alternative development.

The draft EIS should be available for review in August, 2000. The final EIS is scheduled for completion in January, 2001.

The comment period on the draft EIS will be 45 days from the date the Environmental Protection Agency publishes the notice of availability in the Federal Register.

The Forest service believes it is important to give reviewers notice at this early stage of several court rulings related to public participation in the environmental review process. First, reviewers of the draft environmental impact statement must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338, (E.D. Wis. 1980) Because of these court rulings, it is important that those interested in this proposed action participate by the close of the 45-day comment period so that substantive comments and objections are made available to the Forest service at a time when it can meaningfully consider them and respond to them in the final environmental impact statement.

To assist the Forest Service in identifying and considering issues and concerns on the proposed action, comments on the draft environmental impact statement should be as specific as possible. It is helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The responsible official will make the decision on this proposal after considering comments and responses, environmental consequences discussed in the final EIS, and applicable laws, regulations, and policies. The decision and reasons for the decision will be documented in a Record of Decision.

Dated: March 24, 2000.
David P. Garber,
Forest Supervisor.

[FR Doc. 00-9015 Filed 4-11-00; 8:45 am]

BILLING CODE 3410-11-M